DEPARTMENT OF TRANSPORTATION

National Highway Traffic Safety Administration

[Docket No. NHTSA-2015-0092; Notice 1]

DRV, LLC, Receipt of Petition for Decision of Inconsequential Noncompliance

AGENCY: National Highway Traffic Safety Administration (NHTSA), Department of Transportation (DOT).

ACTION: Receipt of petition.

SUMMARY: DRV, LLC (DRV), a wholly owned subsidiary of Thor Industries, Inc., has determined that certain model year (MY) 2003-2016 DRV trailers do not fully comply with paragraph S8.1 of Federal Motor Vehicle Safety Standard (FMVSS) No. 108, Lamps, Reflective Devices, and Associated Equipment. DRV filed a report dated July 31, 2015, pursuant to 49 CFR part 573, Defect and Noncompliance Responsibility and Reports. On August 18, 2015, subsequent to filing the subject petition, DRV revised that report to include more complete information concerning the affected vehicles.

DATES: The closing date for comments on the petition is November 9, 2015.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: Logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated above will be filed and will be considered. All comments and supporting materials received after the closing date will also be filed and will be considered to the extent possible. When the petition is granted or denied, notice of the decision will be published in the Federal Register pursuant to the authority indicated below.

SUPPLEMENTARY INFORMATION:

I. Overview

Pursuant to 49 U.S.C. 30118(d) and 30120(h) (see implementing rule at 49 CFR part 556), DRV submitted a petition for an exemption from the notification and remedy requirements of 49 U.S.C. Chapter 301 on the basis that this noncompliance is inconsequential to motor vehicle safety.

This notice of receipt of DRV's petition is published under 49 U.S.C. 30118 and 30120 and does not represent any agency decision or other exercise of judgment concerning the merits of the petition.

II. Trailers Involved

Affected are approximately 7,465 of the following trailers:

• MY 2003-2016 DRV Mobile Suites (Manufactured between April 22, 2003 and July 22, 2015)

• MY 2014-2015 DRV Traditions (Manufactured between April 1, 2013 and July 24, 2015)

• MY 2013-2016 DRV Estates (Manufactured between April 1, 2012 and July 24, 2015)

• MY 2006-2016 DRV Elite Suites (Manufactured April 1, 2005 and July 24, 2015)

• MY 2014-2016 DRV Full House (Manufactured April 1, 2013 and July 24, 2015)

III. Noncompliance

DRV explained that the noncompliance is that the location of the front side reflex reflectors on the subject trailers are mounted between approximately 8″ and 10″ above the required 60″ height-above-road surface required by paragraph S8.1 of FMVSS No. 108.

IV. Rule Text

Paragraph S8.1 of FMVSS No. 108 requires in pertinent part:

S8.1 Reflex reflectors.

* * * * *

S8.1.4 Mounting Height. See Tables I-a, I-b, I-c.

* * * * *

Table I-b—Required Lamps and Reflective Devices
Lighting device | Number and color | Mounting location | Mounting height | Device activation
All Trailers
* * * * * * *
Reflex Reflectors. A trailer equipped with a conspicuity treatment in conformance with S8.2 of this standard need not be equipped with reflex reflectors if the conspicuity material is placed at the locations of the required reflex reflectors | 2 Amber None required on trailers less than 1829 mm [6 ft] in overall length including the trailer tongue | On each side as far to the front as practicable exclusive of the trailer tongue | Not less than 15 inches, nor more than 60 inches | Not applicable.
* * * * * * *

V. Summary of DRV's Arguments

DRV stated its belief that the subject noncompliance is inconsequential to motor vehicle safety because the reflector is present as required by FMVSS No. 108 except that it is located above the maximum allowable height.

DRV also has no complaints and does not know of any accidents that have occurred due to the reflectors being in their current positions.

In summation, DRV believes that the described noncompliance of the subject trailers is inconsequential to motor vehicle safety, and that its petition, to exempt DRV from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject trailers that DRV no longer controlled at the time it determined that the noncompliance existed. However, any decision on this petition does not relieve equipment distributors and dealers of the prohibitions on the sale, offer for sale, or introduction or delivery for introduction into interstate commerce of the noncompliant trailers under their control after DRV notified them that the subject noncompliance existed.

Authority: 49 U.S.C. 30118, 30120: delegations of authority at 49 CFR 1.95 and 501.8.

Jeffrey Giuseppe,
Director, Office of Trailer Safety Compliance.

[FR Doc. 2015-25641 Filed 10-7-15; 8:45 am]

BILLING CODE 4910-59-P